DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Plant Capacity Utilization.

Form Number(s): MQ-C2.

OMB Control Number: 0607-0175.

Type of Request: Extension of a currently approved collection.

Burden Hours: 52,500.

Number of Respondents: 7,500.

Average Hours per Response: 1 hour and 45 minutes.

Needs and Uses: With support from the Federal Reserve Board (FRB), the U.S. Census Bureau requests an extension of approval for the Survey of Plant Capacity Utilization (SPC). The survey is conducted quarterly. The survey provides information on use of industrial capacity in manufacturing and publishing plants as defined by the North American Industry Classification System (NAICS). It is the only source of capacity rates at industry levels. Changes in capacity utilization are considered important indicators of investment demand and inflationary pressure. For these reasons, the estimates of capacity utilization are closely monitored by government and private policy makers.

We use a mail-out/mail-back form. We also offer an electronic version of the form for reporting via the Internet. The survey collects the value of quarterly production and the value of production that could have been achieved if operating under “full production” capability. The ratio of the actual to the full is the basis of the estimates of capacity utilization. The survey also collects information by shift, on work patterns at the actual production level. Appendix A is a copy of the 2009 MQ-C2 form and instructions. Response to the quarterly survey is voluntary.

The FRB is the primary user of the current SPC data and has expressed the need for these quarterly data. The FRB publishes measures of industrial production (IP) that are either estimated from physical product data or estimated from monthly data on inputs to the production process, specifically production worker hours and an indicator of capital input. For many years, data on electric power use was used as the indicator of industry capital input. The deregulation of electricity markets led to the deterioration in the coverage and quality of the electricity data. As a result, in November 2005, the FRB discontinued its use of the industrial electric power data in the current estimates of IP. In order to maintain the quality of the IP index, the collection of these quarterly utilization data, such as the workweek of capital, become critical indicators of capital input use and industry output.

The FRB will use these data in several ways. First, the SPC data is the primary source of the benchmark information for utilization rates. Second, the capital workweek data will be used as an indicator of capital use in the estimation of monthly output (IP). Third, the workweek data will also be used to improve the projections of labor productivity that are used to align IP with comprehensive benchmark information from the Economic Census covering the Manufacturing sector and Annual Survey of Manufactures. And finally, the utilization rate data will assist in the assessment of recent changes in IP, as most of the high-frequency movement in utilization rates reflect production changes rather than capacity changes.

The Defense Logistics Agency uses the data to assess readiness to meet demand for goods under selected national emergency scenarios.

Affected Public: Business or other for-profit.

Frequency: Quarterly.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 28, 2009.
Glenna Mickelson,
Management Analyst, Office of the Chief Information Officer.

[FR Doc. E9-12846 Filed 6-2-09; 8:45 am]

BILLING CODE 3510-07-P